FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 3189N.

Name: All Express Cargo Inc.

Address: 114-16 Rockaway Blvd., South Ozone Park, NY 11420.

Date Revoked: March 27, 2002.

Reason: Failed to maintain a valid bond.

License Number: 17229NF.

Name: Cubic Express Company, Ltd.

Address: 60 Helwig Street, Berea, OH 44017.

Date Revoked: March 28, 2002.

Reason: Failed to maintain valid bonds.

License Number: 15846N.

Name: David Shek dba Addition Freight Forwarders.

Address: 1317 N. Carolan Avenue, Suite A, Burlingame, CA 94010.

Date Revoked: March 25, 2002.

Reason: Surrendered license voluntarily.

License Number: 15223N.

Name: DSL Transportation Services, Inc.

Address: 5011 Firestone Place, South Gate, CA 90280.

Date Revoked: April 24, 2002.

Reason: Failed to maintain a valid bond.

License Number: 15590N.

Name: Express Global Freight, Inc.

Address: 400 S. Atlantic Blvd., Suite 308, Monterey Park, CA 91754.

Date Revoked: April 24, 2002.

Reason: Failed to maintain a valid bond.

License Number: 12918N.

Name: Freight Options Unlimited.

Address: 12621 Crenshaw Blvd., Hawthorne, CA 90250.

Date Revoked: April 21, 2002.

Reason: Failed to maintain a valid bond.

License Number: 12279F.

Name: Frontrunner Worldwide, Inc.

Address: 215 W. Diehl Road, Naperville, IL 60563.

Date Revoked: April 12, 2002.

Reason: Failed to maintain a valid bond.

License Number: 4578NF.

Name: Global Logistics International Inc.

Address: 10858 NW 27th Street, Miami, FL 33172.

Date Revoked: March 21, 2002.

Reason: Failed to maintain valid bonds.

License Number: 17382NF.

Name: Latek USA, Inc.

Address: 662 Dell Road, Carlstadt, NJ 07072.

Date Revoked: March 27, 2002.

Reason: Failed to maintain valid bonds.

License Number: 16042N.

Name: MAI Global Transport, Inc.

Address: 1377 E. Irving Park Road, Itasca, IL 60143.

Date Revoked: March 26, 2002.

Reason: Surrendered license voluntarily.

License Number: 16650F.

Name: McCollister's Transportation Systems, Inc.

Address: 1800 Route 130 North, Burlington, NJ 08016.

Date Revoked: March 28, 2002.

Reason: Failed to maintain a valid bond.

License Number: 15778N.

Name: Overseasbridge Transport, Ltd.

Address: 5777 W. Century Blvd., Suite 1120, Los Angeles, CA 90045.

Date Revoked: April 24, 2002.

Reason: Failed to maintain a valid bond.

License Number: 4427F.

Name: Pegasus Transair, Inc.

Address: 612 East Dallas Road, Suite 100, Grapevine, TX 76099.

Date Revoked: March 30, 2002.

Reason: Failed to maintain a valid bond.

License Number: 17602NF.

Name: Plus System, Inc. dba PSI Express.

Address: 2263 W. 255th Street, Lomita, CA 90717.

Date Revoked: April 17, 2002.

Reason: Failed to maintain valid bonds.

License Number: 4197N.

Name: S.A.C. International Forwarding, Inc. dba, S.A.C. International Consolidators.

Address: 8442 N.W. 70th Street, Miami, FL 33166.

Date Revoked: April 10, 2002.

Reason: Failed to maintain a valid bond.

License Number: 2971NF.

Name: Seino America, Inc. dba Seino Moving Center, Seino Container Line, Croft & Scully, Tri-Way International Movers.

Address: 8728 Aviation Blvd., Inglewood, CA 90301.

Date Revoked: April 4, 2002.

Reason: Surrendered license voluntarily.

License Number: 16616N.

Name: Shine Express Inc.

Address: 147-38 182nd Street, Jamaica, NY 11413.

Date Revoked: April 21, 2002.

Reason: Failed to maintain a valid bond.

License Number: 17115N.

Name: Sky Way Shipping Inc.

Address: 357 E. Mooney Drive, Monterey Park, CA 91755.

Date Revoked: April 21, 2002.

Reason: Failed to maintain a valid bond.

License Number: 10879N.

Name: Trans Marine International Corporation dba, TMI Systems dba Trans Tank.

Address: 18 North Bothwell Street, Palatine, IL 60067.

Date Revoked: April 7, 2002.

Reason: Failed to maintain a valid bond.

License Number: 14067N.

Name: Western Transit Express Inc.

Address: 2489 Technology Drive, Hayward, CA 94545.

Date Revoked: April 21, 2002.

Reason: Failed to maintain a valid bond.

Sandra L. Kusumoto,
Director, Bureau of Consumer Complaints and Licensing.

[FR Doc. 02-12161 Filed 5-14-02; 8:45 am]

BILLING CODE 6730-01-P